DEPARTMENT OF COMMERCE

National Oceanic and Atmospheric Administration

ENVIRONMENTAL PROTECTION AGENCY

Ohio and Georgia Coastal Nonpoint Pollution Control Programs: Conditional Approvals, Final Findings Documents and Records of Decision

AGENCY: National Oceanic and Atmospheric Administration, U.S. Department of Commerce (NOAA) and Environmental Protection Agency (EPA).

ACTION: Notice of conditional approval of Coastal Nonpoint Pollution Control Programs and availability of Final Findings Documents and Records of Decision for Ohio and Georgia.

SUMMARY: Notice is hereby given of the conditional approval of the Coastal Nonpoint Pollution Control Programs (coastal nonpoint programs) and of the availability of the Final Findings Documents and Records of Decision for Ohio and Georgia. Section 6217 of the Coastal Zone Act Reauthorization Amendments (CZARA) requires States and Territories with coastal zone management programs that have received approval under section 306 of the Coastal Zone Management Act to develop and implement coastal nonpoint programs.

NOAA and EPA have approved, with conditions, the coastal nonpoint programs submitted by Ohio and Georgia. In order to receive final approval of their programs, Ohio and Georgia will need to meet the conditions within the associated timeframes as indicated in the Final Findings Documents.

DATES: The conditional approval of the coastal nonpoint pollution control programs for Ohio and Georgia is effective upon the date of publication of this Notice in the Federal Register.

ADDRESSES: Copies of the Final Findings Documents and Records of Decision may be obtained upon request from: John King, Acting Chief, Coastal Programs Division (N/ORM3), Office of Ocean and Coastal Resource Management, NOS, NOAA, 1305 East-West Highway, Silver Spring, Maryland, 20910, tel. 301-713-3155 extension 195, e-mail john.king@noaa.gov; or on the internet at: http://www.ocrm.nos.noaa.gov/czm/6217/.

FOR FURTHER INFORMATION CONTACT: Chris Rilling, NOAA, 301-713-3155 (x198); or Stacie Craddock, EPA, 202-566-1204.

SUPPLEMENTARY INFORMATION: NOAA and EPA have prepared a Findings Document for each coastal nonpoint program submitted for approval. The Findings Documents were prepared by NOAA and EPA to provide the rationale for the agencies' decision to apporove each State and Territory coastal nonpoint program. Proposed Findings Documents, Environmental Assessments, and Findings of No Significant Impact prepared for the coastal nonpoint programs submitted by Ohio and Georgia were made available for public comment in the Federal Register on September 28, 2001 (66 FR 49643). No public comments were received on the programs.

In accordance with the National Environmental Policy Act (NEPA), NOAA has also prepared a Record of Decision on each program. The Record of Decision: (1) States what the decision was; (2) identifies all alternatives considered, specifying the alternative considered to be environmentally preferable; and (3) states whether all practicable means to avoid or minimize environmental harm from the alternative selected have been adopted.

In March 1996, NOAA published a programmatic environmental impact statement (PEIS) that assessed the environmental impacts associated with the approval of State and Territory coastal nonpoint programs. The PEIS forms the basis for the environmental assessments NOAA has prepared for each State and Territorial coastal nonpoint program submitted to NOAA and EPA for approval. In the PEIS, NOAA determined that the approval and conditional approval of coastal nonpoint programs will not result in any significant adverse environmental impacts and that these actions will have an overall beneficial effect on the environment. Because the PEIS served only as a “framework for decision” on individual State and Territorial coastal nonpoint programs, and no actual decision was made following its publication, NOAA has prepared a NEPA Record of Decision on each individual State and Territorial program submitted for review.

Dated: May 28, 2002.
Margaret A. Davidson,
Acting Assistant Administrator for Ocean Services and Coastal Zone Management, National Oceanic and Atmospheric Administration.
Diane C. Regas,
Acting Assistant Administrator for Office of Water, Environmental Protection Agency.

[FR Doc. 02-13911 Filed 6-3-02; 8:45 am]

BILLING CODE 3510-08-M